DEPARTMENT OF ENERGY

Federal Energy Regulatory Commission

[Docket Nos. PA10-1-000; ER09-555-000; ER05-1065-000]

Entergy Services, Inc.; Notice of Designation of Commission Staff as Non-Decisional

February 2, 2010.

With respect to the October 1, 2009 letter in Docket No. PA10-1-000 notifying Entergy Services, Inc. that the Office of Enforcement and the Office of Electric Reliability of the Federal Energy Regulatory Commission are jointly conducting an audit of Entergy Services, Inc., the staff of the Office of Enforcement is designated as non-decisional in deliberations by the Commission in the above referenced docket numbers, including all subdockets thereto, for purposes of 18 CFR 385.2202 (2009). Mark Hegerle, Olutayo Oyelade, Eric Vandenberg, Juan Villar, and Kevin Wierzbicki of the Office of Electric Reliability, Lawrence Greenfield of the Office of the General Counsel, Thomas Dautel of the Office of Energy Policy and Innovation, and Stephen Pointer of the Office of Energy Market Regulation are also designated as non-decisional in these dockets and subdockets.

Kimberly D. Bose,
Secretary.

.

[FR Doc. 2010-2729 Filed 2-8-10; 8:45 am]

BILLING CODE 6717-01-P